DEPARTMENT OF THE INTERIOR

National Park Service

[NPS-WASO-NRNHL-24738; PPWOCRADI0, PCU00RP14.R50000]

National Register of Historic Places; Notification of Pending Nominations and Related Actions

AGENCY: National Park Service, Interior.

ACTION: Notice.

SUMMARY: The National Park Service is soliciting comments on the significance of properties nominated before December 2, 2017, for listing or related actions in the National Register of Historic Places.

DATES: Comments should be submitted by January 17, 2018.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before December 2, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Congdon, Stephen and Persis Hart Browne, House, 2928 N. Orlando St., Tucson, SG100001956

Woodrow House

8649 E Woodland, Tucson, SG100001957

MARYLAND

Baltimore Independent City

Union Bros. Furniture Company, 1120 S Hanover St., Baltimore (Independent City), SG100001959

MASSACHUSETTS

Berkshire County

Tyringham Library, 118 Main Rd., Tyringham, SG100001960

Franklin County

Woodward, Robert Strong, House and Studio, 43 Upper St., Buckland, SG100001961

NEW HAMPSHIRE

Merrimack County

Concord Gas Light Company Gasholder House, Gas St., Concord, SG100001962

Strafford County

First Congregational Church, 400 Main St., Farmington, SG100001963

NEW YORK

Albany County

St Casimir's Church Complex, 309-315, 317, 320 & 324 Sheridan Ave., Albany, SG100001964

Erie County

Temple Beth Zion, 805 Delaware Ave., Buffalo, SG100001965

Ziegele—Phoenix Refrigeration House and Office

835 Washington St., Buffalo, SG100001966

Additional documentation has been received for the following resources:

COLORADO

Denver County

Brown Palace Hotel, 17th St. and Tremont Pl., Denver, AD70000157

Authority: 60.13 of 36 CFR part 60.

Dated: December 6, 2017.
J. Paul Loether,
Chief, National Register of Historic Places/National Historic Landmarks Program and Keeper, National Register of Historic Places.

[FR Doc. 2017-28312 Filed 12-29-17; 8:45 am]

BILLING CODE 4312-52-P